DEPARTMENT OF COMMERCE

Census Bureau

Proposed Information Collection; Comment Request; The American Community Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 9, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to James Treat, U.S. Census Bureau, American Community Survey Office, Washington, DC 20233, by FAX to (301) 763-8070 or via the Internet at james.b.treat@census.gov.

SUPPLEMENTARY INFORMATION:

I. Abstract

Given the rapid demographic changes experienced in recent years and the strong expectation that such changes will continue and accelerate, the once-a-decade detailed data collection as part of a decennial census is no longer acceptable for producing much of the data required by the Federal government, states, municipalities, and tribal governments. To meet the needs and expectations of the country, the Census Bureau developed the American Community Survey (ACS). This survey collects detailed population and housing data every month and provides tabulations of these data on a yearly basis. In the past, the long-form data were collected only at the time of each decennial census. After years of development and testing, the ACS began full implementation in households in January 2005 and in group quarters (GQs) in January 2006.

Collecting long-form data during the decade through the ACS has had a profound effect on the census design plan. The collection of long-form data had added substantial burden and complexity to past decennial censuses. Implementing the ACS means that the Decennial Census can focus on its constitutional mandate to accurately count the population to apportion the House of Representatives. The ACS—supported by a complete and accurate address system—has simplified the census design, resulting in improvements in both coverage and data quality, while providing current data on detailed population, social, economic, and housing characteristics.

The ACS provides more timely information for critical economic planning by governments and the private sector. In the current information-based economy, federal, state, tribal, and local decision makers, as well as private business and non-governmental organizations, need current, reliable, and comparable socioeconomic data to chart the future. In 2006, the ACS began publishing up-to-date profiles of American communities every year, providing policymakers, planners, and service providers in the public and private sectors this information every year—not just every ten years.

The ACS released estimates of population and housing characteristics for geographic areas of all sizes in December 2010. These data products, used by federal agencies and others, are similar in scope to the Summary File 3 tables from Census 2000. The 2010 Census did not include these detailed characteristics, leaving the ACS as the source of data for uses previously associated with the decennial census long form.

The Census Bureau presently plans to resubmit the ACS to the Office of Management and Budget (OMB) for extended clearance. The current ACS content has been reviewed by the Census Bureau, in conjunction with Federal agency stakeholders, to determine potential areas for improved item response and/or data quality.

II. Method of Collection

The Census Bureau will mail questionnaires to households selected for the ACS. For households that do not return a questionnaire, Census Bureau staff will attempt to conduct interviews via Computer-assisted Telephone Interviews (CATI). We will also conduct Computer-assisted Personal Interviews (CAPI) for a sub sample of nonrespondents. A content reinterview will be conducted from a small sample of respondents.

For most types of GQs, Census Bureau field representatives (FRs) will conduct personal interviews with respondents to complete questionnaires or, if necessary, leave questionnaires and ask respondents to complete. Information from GQ contacts will be collected via CAPI. A GQ contact reinterview will be conducted from a sample of GQs primarily through CATI. A very small percentage of the GQ reinterviews will be conducted via CAPI.

The Census Bureau staff will provide Telephone Questionnaire Assistance (TQA) and if the respondent indicates a desire to complete the survey by telephone, the TQA interviewer conducts the interview.

III. Data

OMB Control Number: 0607-0810.

Form Number: ACS-1, ACS-1(SP), ACS-1(PR), ACS-1(PR)SP, ACS-1(GQ), ACS-1(PR)(GQ), GQFQ, ACS CATI (HU), ACS CAPI (HU), ACS RI (HU), and AGQ QI, AGQ RI.

Type of Review: Regular submission.

Affected Public: Individuals, households, and businesses.

Estimated Number of Respondents: Pending receipt of requested funds to increase the ACS sample, we plan to contact the following number of respondents each year: 3,540,000 households; 200,000 persons in group quarters; 20,000 contacts in group quarters; 43,000 households for reinterview; and 1,500 group quarters contacts for reinterview.

Estimated Time per Response: Estimates are 38 minutes per household, 15 minutes per group quarters contact, 25 minutes per resident in group quarters, and 10 minutes per household or GQ contact in the reinterview samples.

Estimated Total Annual Burden Hours: 2,337,900.

Estimated Total Annual Cost: Except for their time, there is no cost to respondents.

Respondent's Obligation: Mandatory.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 3, 2011.
Gwellnar Banks,
Management Analyst, Office of the Chief Information Officer.

[FR Doc. 2011-5269 Filed 3-8-11; 8:45 am]

BILLING CODE 3510-07-P